DEPARTMENT OF THE INTERIOR

Bureau of Land Management

[18X L1109AF LLUT980300 L12200000.PM0000-24-1A]

Notice of Public Meeting for the Utah Resource Advisory Council

AGENCY: Bureau of Land Management, Interior.

ACTION: Notice of public meeting.

SUMMARY: In accordance with the Federal Land Policy and Management Act, the Federal Advisory Committee Act, and the Federal Lands Recreation Enhancement Act, the U.S. Department of the Interior, Bureau of Land Management's (BLM) Utah Resource Advisory Council (RAC) will meet as indicated below.

DATES: The Utah RAC will hold a public meeting on December 11 and 12, 2017. On December 11, the RAC will meet from 8:00 a.m. to 11:00 a.m. A field tour of the Indian Creek area is scheduled on December 11 from 11:00 a.m. to 5 p.m. On December 12, the RAC will meet from 8 a.m. to 3:30 p.m.

ADDRESSES: The meeting will be held at the Hideout Community Center, 648 Hideout Way, Monticello, Utah, 84535. Field tour participants will depart from the Hideout Community Center, Monticello, Utah. Written comments may be sent to the BLM Utah State Office, 440 West 200 South, Suite 500, Salt Lake City, Utah 84101.

FOR FURTHER INFORMATION CONTACT: Lola Bird, Public Affairs Specialist, BLM, Utah State Office, 440 West 200 South, Suite 500, Salt Lake City, Utah 84101; phone (801) 539-4033; or by email at lbird@blm.gov. If you wish to attend the field tour, contact Ms. Bird no later than December 6, 2017. Persons who use a telecommunications device for the deaf (TDD) may call the Federal Relay Service (FRS) at 1-800-877-8339 to leave a message or question for the above individual. The FRS is available 24 hours a day, seven days a week. Replies are provided during normal business hours.

SUPPLEMENTARY INFORMATION: The Utah RAC consists of 15 members chartered and appointed by the Secretary of the Interior. Their diverse perspectives are represented in commodity, conservation, and general interests. The RAC provides advice to BLM resource managers regarding management plans and proposed resource actions on public land in Utah. The meeting agenda topics will include: The Secretary of the Interior's priorities, statewide oil and gas leasing, Canyon Country District overview, Monticello Field Office updates, Manti-La Sal National Forest recreation fee proposal, BLM Utah recreation donation policy, Utah Recreation Fee Program Initiative, Proposed Moab Campground Business Plan, updates on current resource management planning efforts and major projects, and RAC work projects and business.

A public comment period will take place on December 12 from 11:00 a.m. to 11:30 a.m., when the public may address the RAC. Depending on the number of people who wish to speak, and the time available, the time for individual comments may be limited. Written comments may also be sent to the BLM Utah State Office at the address listed in the ADDRESSES section of this notice. On December 11, 2017, the RAC will have a field tour of the Indian Creek area to gain familiarity with BLM issues in southeast Utah, including recreation uses, travel management, and partnerships.

The meeting and field tour are open to the public; however, transportation, lodging, and meals are the responsibility of the participating individuals.

Before including your address, phone number, email address, or other personal identifying information in your comments, please be aware that your entire comment, including your personal identifying information, may be made publicly available at any time. While you can ask us in your comment to withhold your personal identifying information from public review, we cannot guarantee that we will be able to do so.

Authority: 43 CFR 1784.4-2.

Edwin L. Roberson,
State Director.

[FR Doc. 2017-25835 Filed 11-29-17; 8:45 am]

BILLING CODE 4310-DQ-P